DEPARTMENT OF ENERGY

Federal Energy Regulatory Commission

Notice of Request to Transfer License and Soliciting Comments, Motions to Intervene, and Protests

January 25, 2001.

Take notice that the following application has been filed with the Commission and is available for public inspection:

a. Type of Application: Request for Approval to Transfer License.

b. Project No: 2536-047.

c. Date Filed: December 29, 2000.

d. Applicants: Consolidated Papers, Inc. and Stora Enso North America Corporation.

e. Name of Project: Little Quinnesec Falls Hydroelectric Project.

f. Location: On the Menominee River, in Dickerson County, Michigan, and Marinette County, Wisconsin.

g. Filed Pursuant to: Federal Power Act, 16 U.S.C. 791(a)-825(r).

h. Applicants Contact: Mark E. Anderson, Resources Coordinator, Consolidated Water Power Company, 610 High street, P.O. Box 8050, Wisconsin Rapids, WI 54495-8050, (715) 422-3111.

i. FERC Contact: Any questions on this notice should be addressed to Mr. Lynn R. Miles, Sr., at (202) 219-2671, or e-mail address: lynn.miles@ferc.fed.us.

j. Deadline for filing comments and or motions: March 1, 2001.

All documents (original and eight copies) should be filed with: David P. Boergers, Secretary, Federal Energy Regulatory Commission, 888 First Street, NE., Washington, DC 20426. Comments and protests may be filed with electronically via the internet in lieu of paper. See, 18 CFR 385.200(a)(1)(iii) and the instructions on the Commission's web site at http://www.ferc.fed.us/efi/doorbell.htm.

Please include the project number (2536-037) on any comments or motions filed.

k. Description of Request: Consolidated Papers, Inc., (CPI) and Stora Enso North American Corporation (SENAC) jointly and severally apply for written approval to transfer the license for the Little Quinnesec Hydroelectric Project from CPI to SENAC. CPI and SENAC also request that the transfer be made effective as of the date of conveyance of the project's properties.

l. Locations of the Application: A copy of the application is available for inspection and reproduction at the Commission's Public Reference Room, located at 888 First Street, NE, Room 2A, Washington, DC 20426, or by calling (202) 208-1371. This filing may be viewed on http://www.ferc.fed.us/online/rims.htm (call (202) 208-2222 for assistance). A copy is also available for inspection and reproduction at the address in item h above.

m. Individuals desiring to be included on the Commission's mailing list should so indicate by writing to the Secretary of the Commission.

n. Comments, Protests, or Motions to Intervene—Anyone may submit commnets, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received or or before the specified comment date for the particular application.

o. Filing and Service of Responsive Documents—Any filings must bear in all capital letters the title “COMMENTS”, “RECOMMENDATIONS FOR TERMS AND CONDITIONS”, “PROTESTS”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-2601 Filed 1-30-01; 8:45 am]

BILLING CODE 6717-01-M